DEPARTMENT OF STATE

[Delegation of Authority No. 519]

Delegation of Authority Sudan Claims Resolution Letters

By virtue of the authority vested in the Secretary of State by the laws of the United States, including the State Department Basic Authorities Act (codified in 22 U.S.C. 2651a(a)(4)), I hereby delegate to the Legal Adviser and the Deputy Legal Advisers, to the extent authorized by law, the functions and authorities of the Secretary of State described in § 1707(b) of the Sudan Claims Resolution Act (Title XVII of Division FF of Pub. L. 116-260).

The authority delegated herein may also be exercised by the Secretary, the Deputy Secretary, and the Deputy Secretary for Management and Resources. This delegation of authority does not supersede or affect any other delegation of authority currently in effect.

This document shall be published in the Federal Register.

Dated: September 16, 2021.
Antony J. Blinken,
Secretary of State.

[FR Doc. 2021-21318 Filed 9-29-21; 8:45 am]

BILLING CODE 4710-08-P